NEIGHBORHOOD REINVESTMENT CORPORATION

Sunshine Act Meeting; Regular Board of Directors Meeting

TIME AND DATE: 2:00 p.m., Monday, September 29, 2014.

PLACE: NeighborWorks America—Gramlich Boardroom, 999 North Capitol Street NE., Washington, DC 20002.

STATUS: Open (with the exception of Executive Session).

CONTACT PERSON: Jeffrey Bryson, General Counsel/Secretary (202) 760-4101; jbryson@nw.org.

AGENDA:

I. CALL TO ORDER

II. Executive Session: CEO Search Committee Update

III. Executive Session: Executive Compensation Study

IV. Executive Session: Transition Update

V. Approval of Minutes

VI. Corporate Administration Committee—Board Assessment Update

VII. FY15 Preliminary Corporate & Capital Budget Approval

VIII. Board Policy on Settlements Amendment

IX. FY15 LIFT Continuation

X. Committee Assignments

XI. Board Update—Network Board Governance

XII. Settlements

XIII. MHA Wind Down

XIV. Management Updates

XV. Adjournment

Jeffrey T. Bryson,
EVP & General Counsel/Corporate Secretary.

[FR Doc. 2014-22535 Filed 9-18-14; 11:15 am]

BILLING CODE 7570-02-P